DEPARTMENT OF AGRICULTURE

Performance Review Board Appointments

AGENCY: Office of Human Resource Management, Departmental Management, USDA.

ACTION: Notice of Appointment.

SUMMARY: This notice announces the appointment of the members of the Senior Executive Service (SES) and Senior Level (SL) and Scientific or Professional (ST) Performance Review Boards (PRB) for the U.S. Department of Agriculture (USDA), as required by 5 U.S.C. 4314(c)(4). The Performance Review Board assures consistency, stability, and objectivity in the performance appraisal process. USDA has a total of six PRBs: the Secretary's PRB; Departmental Management and Staff Offices PRB; Natural Resources and Environment PRB; Farm and Foreign Agricultural Services, Rural Development, and Food, Nutrition, and Consumer Services PRB; Marketing and Regulatory Programs, Food Safety PRB; and Research, Education, and Economics PRB. The PRBs are comprised of career and noncareer executives and Chairpersons to make recommendations on the performance of executives to the Secretary, including performance ratings and bonuses for SES, SL, and ST employees. The boards meet annually to review and evaluate performance appraisal documents and provide written recommendations to the Secretary for final approval of performance ratings and base salary increases.

SUPPLEMENTARY INFORMATION: In accordance with 5 U.S.C. 4314(c)(4), the following executives may be appointed by mission areas to the USDA PRBs:

Office of the Secretary

Christenson, Daniel; Wheelock, Leslie.

Departmental Management (OAO, OBPA, OCIO, OCFO, OHSEC, OHRM, OJO, OO, and OPPM) and Staff Offices (ASCR, OCE, OC, OCR, OGC, and NA)

Alboum, Jonathan; Bender, Stuart; Bice, Donald; Black, David; Bumbary-Langston, Inga; Grahn, David; Holladay, Jon; Jeanquart, Roberta; Johansson, Robert C.; Jones, Carmen; Jones, Diem-Linh; Leonard, Joe; Parham, Gregory L.; Prieto, Jeffrey; Shorter, Malcom; Ware, Joseph A.; Wiggins, Marsha A.; Wilusz, Lisa; Young, Michael.

Marketing and Regulatory Programs (MRP)

Avalos, Edward.

Agricultural Marketing Service

Barnes, Rex; Morris, Erin.

Animal and Plant Health Inspection Service

Gregoire, Michael; Shea, A. Kevin.

Grain Inspection, Packers and Stockyards Administration

Mitchell, Lawrence W.

Food Safety

Almanza, Alfred; Ronholm, Brian.

Farm and Foreign Agricultural Services

Scuse, Michael.

Foreign Agricultural Service

Quick, Bryce.

Farm Service Agency

Beyerhelm, Christopher.

Risk Management Agency

Alston, Michael.

Food, Nutrition, and Consumer Services

Wilson, Kathryn.

Food and Nutrition Service

Dean, Telora; Jackson, Yvette.

Rural Development

Salerno, Lillian.

Rural Business Service

Parker, Chadwick O.

Rural Housing Service

Glendenning, Roger; Hernandez, Tony; Primrose, Edna.

Rural Utilities Service

Adams, Keith.

Natural Resources and Environment

Blazer, Arthur; Bonnie, Robert.

Forest Service

Blount, Emilee; Mills, Ann; Rodriguez-Franco, Carlos.

Natural Resources Conservation Service

Berns-Melhus, Kim; Norman-Barry, Gayle.

Research, Education and Economics

Bartuska, Ann.

Agricultural Research Service

Jacobs-Young, Chavonda.

Economic Research Service

Bohman, Mary; Pompelli, Gregory K.

National Agricultural Statistics Service

Hamer, Jr., Hubert; Picanso, Renee; Reilly, Joseph.

National Institute of Food and Agriculture

Broussard, Meryl; Ramaswamy, Sonny.

DATES: Effective November 2, 2015.

FOR FURTHER INFORMATION CONTACT: Roberta Jeanquart, Director, Office of Human Resources Management, telephone: (202) 260-8718, email: bobbi.jeanquart@dm.usda.gov.or Patricia Moore, Director, Executive Resources Management Division, telephone: (202) 720-8629, email: patty.moore@dm.usda.gov.

(Authority: 5 U.S.C. 4314(c)(4).)

Dated: November 3, 2015.
Thomas J. Vilsack,
Secretary.

[FR Doc. 2015-28417 Filed 11-9-15; 8:45 am]

BILLING CODE P